DEPARTMENT OF TRANSPORTATION

Federal Aviation Administration

Notice of Release From Quitclaim Deed and Federal Grant Assurance Obligations at Oxnard Airport, Oxnard, Ventura County, California

AGENCY: Federal Aviation Administration, DOT.

ACTION: Notice of request to release airport land.

SUMMARY: The Federal Aviation Administration (FAA) proposes to rule and invites public comment on the application for a release of approximately .99 acre of airport property near Oxnard Airport, Oxnard, Ventura County, California, from all conditions contained in the Quitclaim Deed and Grant Assurances since the parcel of land is not needed for airport purposes. The property will be sold for its fair market value and the proceeds used for airport purposes. The continued use of the land for agriculture represents a compatible land use that will not interfere with the airport or its operation, thereby protecting the interests of civil aviation.

DATES: Comments must be received on or before March 19, 2015.

FOR FURTHER INFORMATION CONTACT: Comments on the request may be mailed or delivered to the FAA at the following address: Tony Garcia, Airports Compliance Program Manager, Federal Aviation Administration, Airports Division, Federal Register Comment, 15000 Aviation Blvd., Lawndale, CA 90261. In addition, one copy of the comment submitted to the FAA must be mailed or delivered to Mr. Todd McNamee, Director, Ventura County Department of Airports, 555 Airport Way, Camarillo, CA 93010.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

Ventura County, Department of Airports, Camarillo, California requested a release from the conditions contained in the Quitclaim Deed and Grant Assurance obligations for approximately .99 acres of airport land near Oxnard Airport. The property is located northwest of Oxnard Airport, adjacent to North Victoria Avenue and between Doris Avenue and Gonzales Road. The property is presently farm land in an agricultural area. The land will continue to be used for farming. Ventura County requested approval to sell the small parcel because the land is not needed for airport purposes and its current agricultural status prevents other uses. The property is approximately one mile from the airport boundary and is not suitable for current or future airport development. The sale price will be based on its appraised market value and the sale proceeds will be used for airport purposes. The continued use of the property for farming represents a compatible use that will not interfere with airport operations. The airport will be properly compensated, thereby serving the interests of civil aviation.

Issued in Hawthorne, California, on February 5, 2015.
Steven Oetzell,
Acting Manager, Safety and Standards, Airports Division, Western-Pacific Region.

[FR Doc. 2015-03141 Filed 2-13-15; 8:45 am]

BILLING CODE 4910-13-P